INTER-AMERICAN FOUNDATION

Sunshine Act Meetings

TIME AND DATE: August 2, 2022, ET.

PLACE: Via Zoom.

STATUS: Meeting of the Advisory Council, open to the public.

MATTERS TO BE CONSIDERED:

Call to Order

Overview of Meeting Rules by Associate General Counsel

President/CEO update

Management Team Updates

Adjournment

CONTACT PERSON FOR MORE INFORMATION: Nicole Stinson, Associate General Counsel, (202) 683-7117.

For Dial-in Information Contact: Nicole Stinson, Associate General Counsel, (202) 683-7117.

The Inter-American Foundation is holding this meeting under the Government in the Sunshine Act, 5 U.S.C. 552(b).

Nicole Stinson,
Associate General Counsel.

[FR Doc. 2022-14945 Filed 7-8-22; 4:15 pm]

BILLING CODE 7025-01-P